DEPARTMENT OF COMMERCE

Bureau of Economic Analysis

Quarterly Survey of Insurance Transactions by U.S. Insurance Companies With Foreign Persons

ACTION: Proposed collection; comment request.

SUMMARY: The Department of Commerce, as part of its continuing effort to reduce paperwork and respondent burden, invites the general public and other Federal agencies to comment on proposed and/or continuing information collections, as required by the Paperwork Reduction Act of 1995, Public Law 104-13 (44 U.S.C. 3506(c)(2)(A)).

DATES: Written comments must be submitted on or before 5 p.m. May 19, 2006.

ADDRESSES: Direct all written comments to Diane Hynek, Departmental Paperwork Clearance Officer, Department of Commerce, Room 6625, 14th and Constitution Avenue, NW., Washington, DC 20230, or via the Internet at dhynek@doc.gov, ((202) 482-0266).

FOR FURTHER INFORMATION CONTACT: Direct requests for additional information or copies of the survey and instructions to Christopher Emond, Chief, Special Surveys Branch, International Investment Division, (BE-50), Bureau of Economic Analysis, U.S. Department of Commerce, Washington, DC 20230; phone: (202) 606-9826; fax: (202) 606-5318; or via the Internet at christopher.emond@bea.gov.

SUPPLEMENTARY INFORMATION:

I. Abstract

Form BE-45, Quarterly Survey of Insurance Transactions by U.S. Insurance Companies with Foreign Persons, obtains quarterly data from U.S. insurance companies that have engaged in reinsurance transactions with foreign persons, that have earned premiums from, or incurred losses to, foreign persons in the capacity of primary insurers, or that have engaged in international sale or purchase transactions in auxiliary insurance services. The data are needed to monitor U.S. international trade in insurance services, analyze its impact on the U.S. and foreign economies, compile and improve the U.S. economic accounts, support U.S. commercial policy on insurance services, conduct trade promotion, and improve the ability of U.S. businesses to identify and evaluate market opportunities.

The data from the survey are primarily intended as general purpose statistics. They are needed to answer any number of research and policy questions related to cross-border trade in services.

The form remains the same as in the past. No changes in the data collected or in exemption levels are proposed.

II. Method of Collection

Survey forms will be sent to U.S. insurance companies each quarter; responses will be due within 60 days after the close of each calendar quarter, except for the final quarter of the calendar year, when reports are due within 90 days after the close of the quarter. Potential respondents are those U.S. insurance companies that, with respect to transactions with foreign persons, have premiums earned or losses on reinsurance assumed; premiums incurred or losses on reinsurance ceded; premiums earned or losses on primary insurance; or sales or purchases of auxiliary insurance services greater than $8 million (positive or negative) for the prior calendar year or that are expected to be greater than $8 million (positive or negative) in the current calendar year. The data collected are cut-off sample data. In addition, estimates are developed based upon previously reported or estimated data for non-respondents, including those U.S. insurance companies that fall below the reporting threshold for the survey.

III. Data

OMB Number: 0608-0066.

Form Number: BE-45.

Type of Review: Regular submission.

Affected Public: U.S. insurance companies that transact with foreign persons in insurance services.

Estimated Number of Respondents: 225 per quarter; 900 annually.

Estimated Time Per Response: 8 hours.

Estimated Total Annual Burden Hours: 7,200 hours.

Estimated Total Annual Cost: $288,000 (based on an estimated reporting burden of 7,200 hours and an estimated hourly cost of $40).

Respondent's Obligation: Mandatory.

Legal Authority: The International Investment and Trade in Services Survey Act, 22 U.S.C. 3101-3108, as amended.

IV. Request for Comments

Comments are invited on: (a) Whether the proposed collection of information is necessary for the proper performance of the functions of the Agency, including whether the information will have practical utility; (b) the accuracy of the Agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 14, 2006.
Madeleine Clayton,
Management Analyst, Office of Chief Information Officer.

[FR Doc. E6-3949 Filed 3-17-06; 8:45 am]

BILLING CODE 3510-06-P